DEPARTMENT OF HOMELAND SECURITY

Coast Guard

[Docket No. USCG-2018-0881]

Information Collection Request to Office of Management and Budget; OMB Control Number: 1625-0003

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting an extension of its approval for the following collection of information: 1625-0003, Boating Accident Report; without change. Our ICR describes the information we seek to collect from the public. Before submitting this ICR to OIRA, the Coast Guard is inviting comments as described below.

DATES: Comments must reach the Coast Guard on or before January 22, 2019.

ADDRESSES: You may submit comments identified by Coast Guard docket number [USCG-2018-0881] to the Coast Guard using the Federal eRulemaking Portal at https://www.regulations.gov. See the “Public participation and request for comments” portion of the SUPPLEMENTARY INFORMATION section for further instructions on submitting comments.

A copy of the ICR is available through the docket on the internet at https://www.regulations.gov. Additionally, copies are available from: Commandant (CG-612), Attn: Paperwork Reduction Act Manager, U.S. Coast Guard, 2703 Martin Luther King Jr. Ave. SE, Stop 7710, Washington, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. In response to your comments, we may revise this ICR or decide not to seek an extension of approval for the Collection. We will consider all comments and material received during the comment period.

We encourage you to respond to this request by submitting comments and related materials. Comments must contain the OMB Control Number of the ICR and the docket number of this request, [USCG-2018-0881], and must be received by January 22, 2019.

Submitting Comments

We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at https://www.regulations.gov and can be viewed by following that website's instructions. Additionally, if you go to the online docket and sign up for email alerts, you will be notified when comments are posted.

We accept anonymous comments. All comments received will be posted without change to https://www.regulations.gov and will include any personal information you have provided. For more about privacy and the docket, you may review a Privacy Act notice regarding the Federal Docket Management System in the March 24, 2005, issue of the Federal Register (70 FR 15086).

Information Collection Request

Title: Boating Accident Report.

OMB Control Number: 1625-0003.

Summary: The Coast Guard Boating Accident Report form (CG-3865, OMB Control Number 1625-0003) is the data collection instrument that ensures compliance with the implementing regulations and Title 46 U.S.C. 6102 (b) that requires the Secretary to collect, analyze and publish reports, information, and statistics on marine casualties.

Need: Title 46 U.S.C. 6102 (a) requires a uniform marine casualty reporting system, with regulations prescribing casualties to be reported and the manner of reporting. The statute requires a State to compile and submit to the Secretary (delegated to the Coast Guard) reports, information, and statistics on casualties reported to the State. Implementing regulations are contained in Title 33 CFR Subchapter S—Boating Safety, Part 173—Vessel Numbering and Casualty and Accident Reporting, Subpart C—Casualty and Accident Reporting and Part 174—State Numbering and Casualty Reporting Systems, Subpart C—Casualty Reporting System Requirements, and Subpart D—State reports.

States are required to forward copies of the reports or electronically transmit accident report data to the Coast Guard within 30 days of their receipt of the report as prescribed by 33 CFR 174.121 (Forwarding of casualty or accident reports). The accident report data and statistical information obtained from the reports submitted by the State reporting authorities are used by the Coast Guard in the compilation of national recreational boating accident statistics.

Forms: CG-3865, Recreational Boating Accident Report.

Respondents: Federal regulations (33 CFR 173.55) require the operator or any uninspected vessel that is numbered or used for recreational purposes to submit an accident report to the State authority when:

(1) A person dies; or

(2) A person is injured and requires medical treatment beyond first aid; or

(3) Damage to the vessel and other property totals $2,000 or more, or there is a complete loss of the vessel; or

(4) A person disappears from the vessel under circumstances that indicate death or injury.

Frequency: On occasion.

Hour Burden Estimate: The estimated annual burden remains 2,500 hours a year.

Authority: The Paperwork Reduction Act of 1995; 44 U.S.C. Chapter 35, as amended.

Dated: November 14, 2018.
James D. Roppel,
U.S. Coast Guard, Acting Chief, Office of Information Management.

[FR Doc. 2018-25212 Filed 11-19-18; 8:45 am]

BILLING CODE 9110-04-P